FEDERAL COMMUNICATIONS COMMISSION

[WC DOCKET NO. 23-01, CC Docket No. 92-237; DA 23-8, FR ID 123272 ]

Wireline Competition Bureau Announces New Docket for Use in North American Numbering Council Filings

AGENCY: Federal Communications Commission.

ACTION: Notice.

SUMMARY: In this document, the Wireline Competition Bureau (Bureau) of the Federal Communications Commission (Commission) establishes new WC Docket No. 23-01 for use in filing materials related to the North American Numbering Council (NANC).

DATES: January 4, 2023.

ADDRESSES: Federal Communications Commission, 45 L Street NE, Washington, DC 20554.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The NANC is a federal advisory committee created to advise the Commission on numbering issues and to make recommendations that foster efficient and impartial number administration. It is organized under, and operates in accordance with, the provisions of the Federal Advisory Committee Act (FACA), 5 U.S.C. app. 2. The Bureau establishes new WC Docket No. 23-1 for use in filing materials related to the NANC. Opening a new, dedicated docket will enable the public to more easily access materials related to the NANC going forward. Comments or other filings to the NANC should now be filed in new docket WC Docket No. 23-01 and should no longer be filed in CC Docket No. 92-237. Filings relating to the NANC previously submitted to CC Docket No. 92-237 are incorporated into the new NANC docket WC Docket No. 23-01 by reference.

Federal Communications Commission.
Jodie May,
Division Chief, Competition Policy Division, Wireline Competition Bureau.

[FR Doc. 2023-01076 Filed 1-19-23; 8:45 am]

BILLING CODE 6712-01-P